DEPARTMENT OF THE INTERIOR

Bureau of Land Management

[WY-040-00-2822 JL]

Emergency Motor Vehicle Closure of BLM-Administered Public Lands, Sweetwater County, Wyoming

AGENCY: Bureau of Land Management, Interior.

ACTION: Notice of Motor Vehicle Closure of BLM-Administered Public Land Disturbed or Damaged by Wildfire Suppression Activity within the Wildhorse Basin Wildfire, Black Butte Wildfire, Sage Creek Wildfire, and Sheep Mountain Wildfire areas; BLM Rock Springs Field Office, Wyoming.

SUMMARY: The Bureau of Land Management (BLM) hereby gives notice that, effective immediately, all tacks and land surface disturbance made fire fighting vehicles and equipment while suppressing the 36,762-acre Wildhorse Basin Wildfire, 1,844-acre Black Butte Wildfire, 1,377-acre Sage Creek Wildfire, and the 34,346-acre Sheep Mountain Wildfire, off of existing roads and trails, are closed to all motorized vehicle use to help reclaim the land to pre-existing fire conditions.

A Burned Area Emergency Rehabilitation (BAER) Plan has been completed for these burned areas and some of the implementation actions include re-seeding areas with native vegetation and constructing water bars on primary and secondary fire control lines. Areas disturbed or damaged by heavy fire fighting equipment will be signed closed to motor vehicle use. Motorized vehicle travel on these distributed areas could cause unacceptable levels of soil erosion, impair wildfire habitat and cultural resources, and jeopardize the overall burn rehabilitation effort.

In addition, parts of the existing Cherokee Trail (a National Register of Historic Places eligible property) and parts of some existing two-track trails that were damaged by suppression activity will be temporarily closed to enhance reclamation efforts and reduce erosion.

EFFECTIVE DATE: This motor vehicle use closure is effective August 31, 2000 and will remain in effect until further notice.

FOR FURTHER INFORMATION CONTACT: Stan McKee, Field Manager, Rock Springs Field Office, 280 Highway 191 North, Rock Springs, Wyoming 82901. Telephone: (307) 352-0201.

SUPPLEMENTARY INFORMATION: The Wildhorse Basin Wildfire began with a lighting strike on July 2, 2000. The fire encompassed 36,762 acres of federal, state, and private lands. The Black Butte Wildfire began with a lightning strike on July 3, 2000. The fire encompassed 1,844 acres of federal and private lands. The Sage Creek Wildfire began on July 13, 2000 and is suspected to be human caused. It burned 1,377 acres of federal and private lands. The Sheep Mountain Wildfire began with a lightning strike on August 10, 2000, and encompassed 34,346 acres of federal, state, and private lands.

The Green River Resource Management Plan off-highway vehicle (OHV) designation for all the burn areas is “limited” to existing roads and trails. This OHV designation remains unchanged by this use closure. Except for parts of the Cherokee Trail and parts of a few existing two-tracks trails that were damaged by firefighting equipment, motor vehicle traffic will continue to be allowed on roads and trails in the burned areas that existed before the areas were burned. Off-highway vehicle disturbance and tracks made by firefighting equipment could be erroneously viewed as existing roads and trails. Potential damage to watersheds, cultural resources, and valuable wildfire habitat could occur if these disturbed areas and tracks are used for motor vehicle travel. Due to the fragile nature of the burned areas and potential natural resource damage by motorized vehicle use, the BLM has found it necessary to notify and remind the public that motor vehicle travel is still prohibited off the existing roads and trails in burned area and that the off-highway vehicle disturbance and tracks made by firefighting equipment are not roads and trails.

Signs will be placed throughout the burned areas identifying the tracks, trails, and disturbed areas that are closed to motor vehicle travel. Maps will be available for the public at the Rock Springs Field Office and other locations in Sweetwater County.

The emergency closure applies to select BLM-administered lands within the Wildhorse Basin Wildfire, Sage Creek Wildfire, and Sheep Mountain Wildfire area, Sweetwater County, approximately 25 miles southwest of Rock Springs, Wyoming, in Ts. 12, 13, 14, 15, 18, 19 N., Rs. 101, 104, 105, 106, 107 W., Sixth Principal Meridian. The emergency closure applies to select BLM-administered lands within the Black Butte Wildfire, Sweetwater County, approximately 25 miles southeast of Rock Springs, Wyoming, in Ts. 18, 19 N., R. 101 W., Sixth Principal Meridan.

The closure prohibits the use of all motorized vehicles off the existing roads and trails and on damaged two-track trails as described above, with the following exceptions of:

(1) Any Federal, State, or local officers engaged in fire, military, emergency, or law enforcement activities;

(2) BLM employees engaged in official duties;

(3) Adjacent landowners, ranchers, and fence contractors accessing their land and/or performing approved work.

Authority for closure orders is provided under 43 CFR 8364.1.

Violations of this closure are punishable by a fine not to exceed $1,000 and/or imprisonment not to exceed 12 months.

Stan McKee,
Field Manager.

[FR Doc. 00-22288 Filed 8-30-00; 8:45 am]

BILLING CODE 4310-22-M